DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472 (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Crawford County, Arkansas, and Incorporated Areas
FEMA Docket No.: B-7728
Louemma Creek | At the intersection of North Hills Blvd | +459 | City of Van Buren.
| At the intersection with Rena Road | +487
Town Branch | Intersection with 20th St | +420 | City of Van Buren.
| Intersection with Alma | +445
* National Geodetic Vertical Datum.
+ North American Vertical Datum.
# Depth in feet above ground.
ADDRESSES
City of Van Buren
Maps are available for inspection at 1003 Broadway, Van Buren, AR 72956.
Jefferson County, Arkansas, and Incorporated Areas
FEMA Docket No.: B-7726
Harding Drain | Approx. 400′ downstream of U.S. Highway 65 | +208 | City of Pine Bluff.
| At confluence of Outlet Canal | +208
Outlet Canal | Approx. 500′ upstream of the confluence of Outlet Canal Tributary A | +208 | City of Pine Bluff.
| At confluence with Harding Drain | +208
Pitts Drain | At confluence with Outlet Canal | +208 | City of Pine Bluff.
| At S Ohio Street | +208
* National Geodetic Vertical Datum.
+ North American Vertical Datum.
# Depth in feet above ground.
ADDRESSES
City of Pine Bluff
Maps are available for inspection at 200 East 8th Avenue, Pine Bluff, AR 71601.
Kenton County, Kentucky, and Incorporated Areas
FEMA Docket No.: B-7757
Banklick Creek | Eaton Drive bridge | +499 | City of Covington, City of Erlanger, City of Fort Wright, City of Independence, Unincorporated Areas of Kenton County.
| 3,500 feet upstream of Webster Lane bridge | +648
Bullock Pen Creek (Banklick Creek backwater) | 140′ upstream of CSX railroad crossing of Bullock Pen Creek | +517 | City of Edgewood.
| City of Edgewood and City of Erlanger corporate limits | +517
DeCoursey Creek (Licking River backwater) | City of Fairview and Kenton County Unincorporated corporate limits | +504 | City of Fairview.
| 4,670 feet upstream of City of Fairview and Kenton County Unincorporated corporate limits | +504
Fowler Creek | Mouth at Banklick Creek | +562 | City of Independence, Unincorporated Areas of Kenton County.
| Pelly Road bridge | +713
Unnamed Tributary (Backwater from Licking River) | 870 feet downstream of CSX Railroad Bridge | +518 | Unincorporated Areas of Kenton County.
| 1,010 feet upstream of CSX Railroad | +518
* National Geodetic Vertical Datum.
+ North American Vertical Datum.
# Depth in feet above ground.
ADDRESSES
City of Covington
Maps are available for inspection at 638 Madison Avenue, Covington, KY 41011.
City of Edgewood
Maps are available for inspection at 385 Dudley Road, Edgewood, KY 41017.
City of Erlanger
Maps are available for inspection at 505 Commonwealth Avenue, Erlanger, KY 41018.
City of Fairview
Maps are available for inspection at 303 Court Street, Covington, KY 41011.
City of Fort Wright
Maps are available for inspection at 409 Kyles Lane, Fort Wright, KY 41011.
City of Independence
Maps are available for inspection at 5292 Madison Pike, Independence, KY 41051.
Unincorporated Areas of Kenton County
Maps are available for inspection at 303 Court Street, Covington, KY 41011.
Jackson County, Mississippi, and Incorporated Areas
FEMA Docket No.: B-7756
Bay of Biloxi | Approximately 5,000 feet downstream of Interstate 10 | +12 | Unincorporated Areas of Jackson County, City of Ocean Springs.
| At Jackson/Harrison County boundary at the shoreline just south of the intersection of Beach Bayou Avenue and Racetrack Road | +23
Bayou Costapia | At Jackson/Harrison County boundary | +14 | Unincorporated Areas of Jackson County.
| Approximately 780 feet upstream of Jackson/Harrison County boundary | +15
Bluff Creek | Approximately 500 feet upstream of confluence with Woodmans Branch | +11 | Unincorporated Areas of Jackson County.
| Approximately 650 feet downstream of Highway 57 | +13
Cypress Creek | Approximately 1,000 feet upstream of Jackson/Harrison County boundary | +14 | Unincorporated Areas of Jackson County.
| At the confluence with Ditch No. 1 | +16
Gulf of Mexico/Mississippi Sound/Pascagoula River | At the intersection of Frank Griffin Road and Interstate 10 | +8 | Unincorporated Areas of Jackson County, City of Gautier, City of Moss Point, City of Ocean Springs, City of Pascagoula.
| Petit Bois Island | +17
| Horn Island | +18
| At the western end of Point Aux Chenes Road | +23
Jackson Creek | At the confluence with Escatawpa River | +15 | Unincorporated Areas of Jackson County.
| At Mississippi/Alabama State boundary | +19
Jackson Creek Tributary 2 | At the confluence with Jackson Creek | +16 | Unincorporated Areas of Jackson County.
| Approximately 4,150 feet upstream of the confluence with Jackson Creek | +20
Old Fort Bayou | Approximately 3,200 feet downstream of Interstate 10 | +12 | Unincorporated Areas of Jackson County.
| Approximately 900 feet upstream of confluence with Bayou Castelle | +13
Old Fort Bayou Tributary 7 | Appproximately 3,800 feet upstream of the confluence with Old Fort Bayou | +18 | Unincorporated Areas of Jackson County.
| Approximately 500 feet downstream of Humphrey Road | +41
Old Fort Bayou Tributary 8 | Approximately 2,100 feet upstream of the confluence with Old Fort Bayou Tributary 7 | +18 | Unincorporated Areas of Jackson County.
| Approximately 4,600 feet upstream of the confluence with Old Fort Tributary 7 | +25
Ponding Area | Ponding area bound by State Highway 613 to the North, Highway 90 to the South, 14th Street to the West, and Hospital Street to the East | +13 | City of Moss Point.
| Ponding area bound by Elder Street to the North, Dr. Martin Luther King Drive to the South, State Highway 613 to the West, and Palmetto Street to the East | +14
| Approximately 750 feet east of intersection of Slag Road and Gautier Street | +16
Ponding Area | Ponding area bound by Nottingham Road to the North, Highway 90 to the South, Bristol Boulevard to the West, and Guilford Road to the East | +20 | City of Ocean Springs.
Ponding Areas | Ponding areas bound by Groveland Road to the North, Highway 90 to the South, Industrial Park Circle to the West, and Parktown Drive to the East | +19 | City of Ocean Springs.
Waters Creek | At McGregor Road | +26 | Unincorporated Areas of Jackson County.
| At the confluence with Waters Creek Tributary 4 | +38
* National Geodetic Vertical Datum.
+ North American Vertical Datum.
# Depth in feet above ground.
ADDRESSES
City of Gautier
Maps are available for inspection at Code Enforcement, 3330 Highway 90, Gautier, MS 39553.
City of Moss Point
Maps are available for inspection at City Hall, 4412 Denny Street, Moss Point, MS 39563.
City of Ocean Springs
Maps are available for inspection at Building Department, 1018 Porter Avenue, Ocean Springs, MS 39564.
City of Pascagoula
Maps are available for inspection at Code Enforcement Department, 4015 14th Street, Pascagoula, MS 39567.
Unincorporated Areas of Jackson County
Maps are available for inspection at Jackson County Civic Center, 2902 Shortcut Road, Pascagoula, MS 39567.
Davidson County, North Carolina, and Incorporated Areas
Docket Nos.: FEMA-D-7826 and FEMA-D-7771
Abbotts Creek | At the confluence with Yadkin River | +625 | Unincorporated Areas of Davidson County, City of Lexington.
| Approximately 0.8 mile upstream of the confluence of Pounder Fork | +629
Abbotts Creek Tributary 1 | Approximately 200 feet downstream of Cascade Drive | +768 | Unincorporated Areas of Davidson County.
| Approximately 1,140 feet upstream of Cascade Drive | +790
Alls Fork | Approximately 600 feet downstream of the Davidson/Montgomery County boundary | +511 | Unincorporated Areas of Davidson County.
| Approximately 670 feet upstream of Badin Lake Road (State Road 2550) | +512
Battle Branch | At the confluence with Abbotts Creek | +625 | Unincorporated Areas of Davidson County.
| Approximately 0.9 mile upstream of Silver Hill Road (State Road 2315) | +722
Beaverdam Creek | At the Davidson/Montgomery County boundary | +511 | Unincorporated Areas of Davidson County.
| Approximately 1,080 feet upstream of Badin Lake Road (State Road 2550) | +515
Brier Creek | At the Davidson/Randolph County boundary | +547 | Unincorporated Areas of Davidson County.
| At the confluence of Conrad Hill Branch | +573
Brier Creek Tributary | At the confluence with Brier Creek | +548 | Unincorporated Areas of Davidson County.
| Approximately 190 feet upstream of Denton Road (State Road 2183) | +784
Brushy Fork | Approximately 950 feet upstream of the confluence with Abbotts Creek | +689 | Unincorporated Areas of Davidson County, Town of Wallburg.
| At the Davidson/Forsyth County boundary | +850
Brushy Fork Tributary 2 | At the confluence with Brushy Fork | +749 | Unincorporated Areas of Davidson County.
| Approximately 1.2 miles upstream of the confluence with Brushy Fork | +791
Buck Branch | At the confluence with Brushy Fork | +697 | Unincorporated Areas of Davidson County.
| Approximately 310 feet upstream of Hunter Road (State Road 1814) | +748
Buck Branch Tributary 1 | At the confluence with Buck Branch | +705 | Unincorporated Areas of Davidson County.
| Approximately 0.6 mile upstream of the confluence with Buck Branch | +727
Cabin Creek | At the confluence with Yadkin River | +576 | Unincorporated Areas of Davidson County.
| Approximately 1,840 feet upstream of NC Highway 49 | +753
Cain Creek | Approximately 0.8 mile upstream of the confluence with Leonard Creek | +779 | Unincorporated Areas of Davidson County.
| Approximately 1.1 miles upstream of the confluence with Leonard Creek | +793
Charles Creek | Approximately 450 feet upstream of the confluence with Hamby Creek | +773 | City of Thomasville.
| Approximately 220 feet downstream of Fairgrove Road | +827
Churchland Creek | At the confluence with Potts Creek and South Potts Creek | +695 | Unincorporated Areas of Davidson County.
| Approximately 900 feet upstream of Fox Run Trail | +753
Conrad Hill Branch | At the confluence with Brier Creek | +573 | Unincorporated Areas of Davidson County.
| Approximately 460 feet upstream of Railroad | +805
Cool Branch | At the confluence with Brushy Fork | +717 | Unincorporated Areas of Davidson County.
| Approximately 200 feet upstream of Friendship-Ledford Road (State Road 1700) | +848
Dunkers Creek | At the confluence with Dykers Creek | +682 | Unincorporated Areas of Davidson County.
| Approximately 130 feet upstream of Marshall Byerly Road (State Road 1442) | +712
Dykers Creek | At the confluence with Yadkin River | +673 | Unincorporated Areas of Davidson County.
| Approximately 550 feet upstream of the confluence with Dykers Creek Tributary 3 | +701
Dykers Creek Tributary | At the confluence with Dykers Creek | +694 | Unincorporated Areas of Davidson County.
| Approximately 1.2 miles upstream of U.S. Highway 64 | +778
Dykers Creek Tributary 3 | At the confluence with Dykers Creek | +699 | Unincorporated Areas of Davidson County.
| Approximately 0.7 mile upstream of U.S. Highway 64 | +739
Ellis Creek | At the confluence with Yadkin River | +571 | Unincorporated Areas of Davidson County.
| Approximately 670 feet upstream of Mose Glover Road (State Road 2540) | +653
Ellis Creek Tributary | At the confluence with Ellis Creek | +571 | Unincorporated Areas of Davidson County.
| Approximately 0.5 mile upstream of Newsome Road (State Road 2538) | +666
Farabee Creek | At the confluence with Yadkin River | +650 | Unincorporated Areas of Davidson County.
| At the confluence of Frost Creek and Swan Creek | +650
Flat Swamp Creek | At the confluence with Yadkin River | +625 | Unincorporated Areas of Davidson County.
| Approximately 1.1 miles upstream of New Cut Road (State Road 2262) | +813
Fourmile Branch | At the confluence with Flat Swamp Creek | +625 | Unincorporated Areas of Davidson County.
| Approximately 470 feet upstream of East Old U.S. 64 Highway (State Road 2205) | +763
Frost Creek | At the confluence of Farabee Creek and Swan Creek | +650 | Unincorporated Areas of Davidson County.
| Approximately 0.7 mile upstream of Henry Lomax Road (State Road 1163) | +676
Fryes Creek | At the confluence with Muddy Creek | +689 | Unincorporated Areas of Davidson County.
| Approximately 1,700 feet upstream of Payne Road (State Road 1505) | +755
Gobble Creek | At the confluence with Yadkin River | +672 | Unincorporated Areas of Davidson County.
| Approximately 1.0 mile upstream of Andrew Sink Road (State Road 1190) | +774
Hamby Creek | Approximately 350 feet upstream of the confluence of Warner Creek | +816 | City of Thomasville.
| Approximately 1,000 feet upstream of Liberty Drive | +831
Hamby Creek Tributary | Approximately 1,000 feet downstream of Upper Lake Road (State Road 2024) | +672 | Unincorporated Areas of Davidson County, City of Thomasville.
| Approximately 600 feet upstream of Ford Street | +801
Hamby Creek Tributary 1 | Approximately 175 feet upstream of the confluence with Hamby Creek | +736 | Unincorporated Areas of Davidson County, City of Thomasville.
| Approximately 160 feet upstream of East Holly Grove Road | +808
Hanks Branch | Approximately 500 feet upstream of the confluence with Hunts Fork | +702 | City of Thomasville.
| Approximately 30 feet downstream of Cox Avenue | +808
Hasty Creek | Approximately 10 feet downstream of Payne Road (State Road 1779) | +770 | City of Thomasville.
| Approximately 1,380 feet upstream of Payne Road (State Road 1779) | +783
Huffmans Creek | At the confluence with Reedy Creek | +690 | Unincorporated Areas of Davidson County.
| Approximately 870 feet upstream of Enterprise Road (State Road 1499) | +761
Indian Grave Creek | Approximately 100 feet upstream of Happy Hill Road (State Road 1231) | +716 | Unincorporated Areas of Davidson County.
| Approximately 1.9 miles upstream of Happy Hill Road (State Road 1231) | +778
Jefferson Village Tributary | Approximately 50 feet upstream of the confluence with Jefferson Village Branch | +674 | Unincorporated Areas of Davidson County, City of Lexington.
| Approximately 1,800 feet upstream of the confluence with Jefferson Village Branch | +721
Jersey Creek | At the confluence with Swearing Creek | +626 | Unincorporated Areas of Davidson County.
| Approximately 1,150 feet upstream of Railroad | +734
Kennedy Mill Creek | Approximately 500 feet upstream of the confluence with Rich Fork | +705 | Unincorporated Areas of Davidson County.
| At the Davidson/Guilford County boundary | +801
Kennedy Mill Creek Tributary 1 | At the confluence with Kennedy Mill Creek | +740 | Unincorporated Areas of Davidson County, City of Thomasville.
| At the Davidson/Guilford County boundary | +808
Lick Creek | At the confluence with Yadkin River | +576 | Unincorporated Areas of Davidson County, Town of Denton.
| Approximately 690 feet upstream of Cid Road (State Road 2318) | +697
Little Brushy Fork | At the confluence with Brushy Fork | +732 | Unincorporated Areas of Davidson County, Town of Midway.
| Approximately 1.8 miles upstream of Tom Livengood Road (State Road 1719) | +861
Little Brushy Fork Tributary 1 | At the confluence with Little Brushy Fork | +748 | Unincorporated Areas of Davidson County, Town of Midway.
| Approximately 0.7 mile upstream of the confluence of Little Brushy Fork Tributary 1A | +781
Little Brushy Fork Tributary 1A | At the confluence with Little Brushy Fork Tributary 1 | +757 | Unincorporated Areas of Davidson County, Town of Midway.
| Approximately 2,000 feet upstream of Garden Valley Drive | +786
Little Uwharrie River | At the Davidson/Randolph County boundary | +553 | Unincorporated Areas of Davidson County.
| Approximately 110 feet upstream of the confluence of Little Uwharrie River Tributary 3 | +602
Little Uwharrie River Tributary 10 | Approximately 20 feet downstream of the Davidson/Randolph County boundary | +858 | Unincorporated Areas of Davidson County.
| Approximately 20 feet upstream of the Davidson/Randolph County boundary | +858
Little Uwharrie River Tributary 11 | Approximately 10 feet downstream of the Davidson/Randolph County boundary | +848 | Unincorporated Areas of Davidson County.
| Approximately 20 feet upstream of the Davidson/Randolph County boundary | +848
Little Uwharrie River Tributary 11A | At the Davidson/Randolph County boundary | +876 | Unincorporated Areas of Davidson County.
| Approximately 40 feet downstream of the Davidson/Randolph County boundary | +876
Little Uwharrie River Tributary 2 | At the confluence with Little Uwharrie River | +576 | Unincorporated Areas of Davidson County.
| Approximately 620 feet downstream of Underwood Drive (State Road 2157) | +679
Little Uwharrie River Tributary 3 | At the confluence with Little Uwharrie River | +601 | Unincorporated Areas of Davidson County.
| Approximately 0.5 mile upstream of the confluence with the Little Uwharrie River | +643
Long Branch | At the confluence with Brushy Fork | +754 | Unincorporated Areas of Davidson County.
| Approximately 1.0 mile upstream of the confluence with Brushy Fork | +781
Mary Reich Creek | Approximately 70 feet downstream of the Davidson/Forsyth County boundary | +811 | Unincorporated Areas of Davidson County.
| At the Davidson/Forsyth County boundary | +811
Mill Creek | At the confluence with Yadkin River | +666 | Unincorporated Areas of Davidson County.
| Approximately 1.0 mile upstream of Tyro School Road (State Road 1180) | +740
Miller Creek | At the confluence with Muddy Creek | +690 | Unincorporated Areas of Davidson County, Town of Midway.
| Approximately 250 feet upstream of North Payne Road (State Road 1510) | +811
Mountain Branch | At the Davidson/Montgomery County boundary | +601 | Unincorporated Areas of Davidson County.
| Approximately 60 feet upstream of the Davidson/Montgomery County boundary | +601
Muddy Creek | At the confluence with Yadkin River | +685 | Unincorporated Areas of Davidson County.
| At the Davidson/Forsyth County boundary | +691
North Hamby Creek | Approximately 50 feet upstream of Mason Way | +854 | Unincorporated Areas of Davidson County, City of Thomasville.
| Approximately 960 feet upstream of Railroad | +872
North Potts Creek | At the confluence with Yadkin River | +629 | Unincorporated Areas of Davidson County.
| Approximately 0.4 mile upstream of Sam Shape Road (State Road 1134) | +640
Oil Mill Branch | At the confluence with Brushy Fork | +707 | Unincorporated Areas of Davidson County.
| Approximately 800 feet upstream of Disher Road (State Road 1805) | +740
Potts Creek | At the confluence with South Potts Creek | +695 | Unincorporated Areas of Davidson County.
| Approximately 1,560 feet upstream of Ed Rickard Road (State Road 1161) | +719
Pounder Fork | At the confluence with Abbotts Creek | +625 | Unincorporated Areas of Davidson County.
| Approximately 420 feet upstream of Smith Farm Road (State Road 2015) | +811
Pounder Fork Tributary | At the confluence with Pounder Fork | +744 | Unincorporated Areas of Davidson County.
| Approximately 150 feet downstream of Robert Beck Road (State Road 2226) | +780
Pounder Fork Tributary 1 | Approximately 400 feet upstream of the confluence with Pounder Fork | +648 | Unincorporated Areas of Davidson County.
| Approximately 130 feet upstream of John Young Road (State Road 2246) | +740
Reedy Creek | At the confluence with Yadkin River | +682 | Unincorporated Areas of Davidson County.
| Approximately 1,250 feet upstream of George Hege Road (State Road 1504) | +777
Rich Fork | At the upstream side of Westover Road (State Road 1738) | +781 | City of High Point.
| Approximately 0.6 mile upstream of Westover Road | +792
Rich Fork Tributary 2 | Approximately 200 feet upstream of the confluence of Rich Fork Tributary 2A | +790 | Unincorporated Areas of Davidson County.
| Approximately 700 feet upstream of the confluence of Rich Fork Tributary 2A | +793
Rich Fork Tributary 2 | At the confluence with Rich Fork | +782 | City of High Point.
| At the Davidson/Guilford County boundary | +807
Rich Fork Tributary 2A | At the confluence with Rich Fork Tributary 2 | +788 | City of High Point.
| Approximately 900 feet upstream of the confluence with Rich Fork Tributary 2 | +798
South Fork Muddy Creek | At the confluence with Muddy Creek | +690 | Unincorporated Areas of Davidson County.
| At the Davidson/Forsyth County boundary | +691
South Potts Creek | At the confluence with North Potts Creek | +629 | Unincorporated Areas of Davidson County.
| At the confluence of Churchland Creek and Potts Creek | +695
South Potts Creek Tributary | At the confluence with South Potts Creek | +642 | Unincorporated Areas of Davidson County.
| Approximately 0.4 mile upstream of the confluence with South Potts Creek | +642
Spencer Creek | Approximately 125 feet upstream of the confluence with Hamby Creek | +797 | Unincorporated Areas of Davidson County, City of Thomasville.
| Approximately 0.4 mile upstream of Liberty Drive | +863
Spurgeon Creek | Approximately 100 feet upstream of Sells Farm Road | +818 | Unincorporated Areas of Davidson County.
| Approximately 230 feet upstream of Sells Farm Road | +819
Spurgeon Creek Tributary 1 | Approximately 850 feet upstream of the confluence with Spurgeon Creek | +751 | Unincorporated Areas of Davidson County.
| Approximately 430 feet upstream of Willie Bodenheimer Road (State Road 1746) | +781
Spurgeon Creek Tributary 2 | Approximately 850 feet upstream of the confluence with Spurgeon Creek | +781 | Unincorporated Areas of Davidson County, Town of Wallburg.
| Approximately 1,870 feet upstream of North Creekside Drive | +793
Swan Creek | At the confluence with Farabee Creek and Frost Creek | +650 | Unincorporated Areas of Davidson County.
| Approximately 0.6 mile upstream of Boones Cave Road | +665
Swearing Creek | At the confluence with Yadkin River | +626 | Unincorporated Areas of Davidson County.
| Approximately 1.2 miles upstream of Will Lanier Road (State Road 1460) | +813
Swearing Creek Tributary 1 | At the confluence with Swearing Creek | +626 | Unincorporated Areas of Davidson County.
| Approximately 0.5 mile upstream of Rockcrusher Road (State Road 1114) | +634
Swearing Creek Tributary 2 | Approximately 700 feet upstream of the confluence with Swearing Creek | +654 | Unincorporated Areas of Davidson County, City of Lexington.
| Approximately 0.4 mile upstream of the confluence with Swearing Creek | +670
Tar Creek | Approximately 0.5 mile upstream of the confluence with Swearing Creek | +644 | Unincorporated Areas of Davidson County.
| Approximately 1.1 miles upstream of the confluence with Swearing Creek | +654
Ward Creek | Approximately 100 feet upstream of the confluence with Hamby Creek | +740 | City of Thomasville.
| Approximately 740 feet upstream of Fisher Ferry Road | +800
Yadkin River | Approximately 400 feet downstream of the Davidson/Montgomery County boundary | +566 | Unincorporated Areas of Davidson County.
| At the Davidson/Forsyth County boundary | +691
Yadkin River Tributary 2 | At the confluence with Yadkin River | +689 | Unincorporated Areas of Davidson County.
| Approximately 1.0 mile upstream of the confluence with Yadkin River | +740
* National Geodetic Vertical Datum.
+ North American Vertical Datum.
# Depth in feet above ground.
ADDRESSES
City of High Point
Maps are available for inspection at City of High Point Engineering Services Department, 211 South Hamilton Street, High Point, North Carolina.
City of Lexington
Maps are available for inspection at City of Lexington, 28 West Center Street, Lexington, North Carolina.
Town of Midway
Maps are available for inspection at the Midway Town Hall, 125 Gum Tree Road, Midway, North Carolina.
City of Thomasville
Maps are available for inspection at Thomasville City Hall, 10 Salem Street, Thomasville, North Carolina.
Town of Denton
Maps are available for inspection at Denton Town Hall, P.O. Box 306/201 West Salisbury Street, Denton, North Carolina.
Town of Wallburg
Maps are available for inspection at Town of Wallburg, 204 Linville Court, Kernersville, North Carolina.
Unincorporated Areas of Davidson County
Maps are available for inspection at Davidson County Governmental Center, Planning and Zoning Department, 913 Greensboro Street, Lexington, North Carolina.
Cumberland County, Pennsylvania, and Incorporated Areas
FEMA Docket No.: B-7759
Conodoguinet Creek | Approximately 7,250 feet upstream of dam | +481 | Township of Lower Mifflin, Township of North Newton.
| Approximately 7,000 feet upstream of dam | +481
Dogwood Run | Approximately 500 feet upstream from intersection of Creek and Williams Grove Road | +427 | Township of Monroe.
| Approximately 1,400 feet upstream from intersection of Creek and Williams Grove Road | +433
Hogestown Run | Approximately 200 feet downstream of Old Stone House Road | +443 | Township of Middlesex.
| Approximately at Old Stone House Road | +447
Middle Spring Creek | Approximately at the confluence with Conodoguinet Creek | +544 | Township of Hopewell.
| Approximately 9,590 feet downstream from Hale Road | +547
Yellow Breeches Creek | Approximately 700 feet downstream of Spangler's Mill Road | +333 | Township of Lower Allen.
| Approximately 7,100 feet upstream of Spangler's Mill Road | +342
* National Geodetic Vertical Datum.
+ North American Vertical Datum.
# Depth in feet above ground.
ADDRESSES
Township of Hopewell
Maps are available for inspection at 14 Hoover Drive, Newburg, PA 17240.
Township of Lower Allen
Maps are available for inspection at 1993 Hummell Avenue, Camp Hill, PA 17011.
Township of Lower Mifflin
Maps are available for inspection at 529 Shed Road, Newville, PA 17241.
Township of Middlesex
Maps are available for inspection at 350 Middlesex Road, Carlisle, PA 17013.
Township of Monroe
Maps are available for inspection at 1220 Boiling Springs, Mechanicsburg, PA 17055.
Township of North Newton
Maps are available for inspection at 255 Ott Road, Shippensburg, PA 17257.
Accomack County, Virginia, and Incorporated Areas
FEMA Docket No: B-7764
Chesapeake Bay | Base Flood Elevation changes ranging from 4 to 6 feet have occurred along the northern, southern, eastern, and western perimeter, as well as interior areas of the island | +6 | Town of Tangier.
Occohannock Creek (Chesapeake Bay) | Approximately Route 178 (Shields Bridge Road) | +8 | Town of Belle Haven.
| Approximately the northern community boundary for Belle Haven along Occohannock Creek | +8
Onancock Creek (Chesapeake Bay) | Base Flood Elevations have changed along the northern, central, and southern branches of Onancock Creek. Changes extend from the western confluence of these three branches to their eastern most extent within the community boundary of the Town of Onancock | +7 | Town of Onancock.
* National Geodetic Vertical Datum.
+ North American Vertical Datum.
# Depth in feet above ground.
‸ Mean Sea Level, rounded to the nearest 0.1 meter.
ADDRESSES
Town of Belle Haven
Maps are available for inspection at P.O. Box 238, Belle Haven, VA 23306.
Town of Onancock
Maps are available for inspection at 15 North Street, Onancock, VA 23417.
Town of Tangier
Maps are available for inspection at 4301 Joshua Thomas Lane, Tangier, VA 23440.
St. Croix County, Wisconsin, and Incorporated Areas
FEMA Docket No.: D-7806
Kinnickinnic River | Approximately 1,500 feet downsteam of County Road MM. | +897 | Unincorporated Areas of St. Croix County.
| Approximately 1,200 feet upstream of North Main Street | +896
Willow River | Approximately 2,500 feet upstream of the confluence with Paperjack Creek | +983 | Unincorporated Areas of St. Croix County.
| Approximately 1.4 miles downstream of 160th Street | +984
* National Geodetic Vertical Datum.
+ North American Vertical Datum.
# Depth in feet above ground.
ADDRESSES
St. Croix County (Unincorporated Areas)
Maps are available for inspection at St. Croix County Office Building, 1101 Carmichael Road, Hudson, WI 54016.

(Catalog of Federal Domestic Assistance No. 97.022, “Flood Insurance.”)

Dated: September 29, 2008.
Michael K. Buckley,
Acting Assistant Administrator,Mitigation Directorate,Department of Homeland Security,Federal Emergency Management Agency.

[FR Doc. E8-24079 Filed 10-9-08; 8:45 am]

BILLING CODE 9110-12-P